DEPARTMENT OF COMMERCE

Census Bureau

Agency Information Collection Activities; Submission to the Office of Management and Budget (OMB) for Review and Approval; Comment Request; Generic Clearance for Collection of State Administrative Records Data

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the collection of state level administrative records data, prior to the submission of the information collection request (ICR) to OMB for approval.

DATES: To ensure consideration, comments regarding this proposed information collection must be received on or before April 16, 2024.

ADDRESSES: Interested persons are invited to submit written comments by email to Jenny Aramony at adrm.pra@census.gov. Please reference `Generic Clearance for Collection of State Administrative Records Data' in the subject line of your comments. You may also submit comments, identified by Docket Number USBC-2024-0001, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Jenny Aramony, U.S. Census Bureau, 4600 Silver Hill Road, Washington, DC 20233-8400 at (301) 763-8715.

SUPPLEMENTARY INFORMATION:

I. Abstract

The U.S. Census Bureau plans to request clearance for acquiring State administrative records data in order to improve efficiency and accuracy in our data collections, and to improve measures of the population and economy. The Census Bureau has undertaken research projects to integrate and link Census Bureau data from current surveys and censuses with State administrative records data.

The Census Bureau uses State administrative records data linked with other survey and census records, including but not limited to, data from the Survey of Income and Program Participation (SIPP), the Current Population Survey (CPS) and the American Community Survey (ACS) to conduct research and improve operations. The Census Bureau benefits from these projects by improving data quality, and producing modelbased estimates, improved edits and allocations, and studies of program participation over time. Data providers have benefited through access to tabulated data and reports to better administer their programs.

The Census Bureau encourages the District of Columbia and all 50 states to share administrative records data generally associated with, but not limited to: nutrition and food assistance programs, including the Supplemental Nutrition Assistance Program (SNAP) and the Special Supplemental Nutrition Program for Women, Infants and Children (WIC); and welfare programs, including child care subsidy; household self-sufficiency programs, including low income energy assistance programs and Temporary Assistance for Needy Families (TANF). Data sharing and analysis of linked files are solely for statistical purposes, not for program enforcement. All State administrative records data are and will remain confidential under title 13, United States Code, section 9, whether in their original form or when comingled or linked.

Linking records across programs, across states, or over time will be accomplished using a unique linkage identifier called a Protected Identification Key (PIK). Processing to assign a PIK to each person record involves matching based on combinations of name, address, sex, date of birth, and Social Security Number (SSN) data, as available. The person validation and PIK processing has been used by other Census Bureau research and operations projects. Only Census Bureau staff conducting the record linkage have access to files with Personally Identifiable Information, and access to those files assigned a PIK is limited to individuals with a need to know who have met the requirements of Title 13, United States Code, and have appropriate security clearances.

The Census Bureau makes summary statistics and analyses using the State administrative records data publicly available. This information assists State Agencies in developing better measures of program participation, poverty, and inequality, and understanding the demographic characteristics of participants. The analyses help State Agencies understand variation in program participation across demographic subgroups and sub-state geographies, review enrollment rates for those eligible for assistance, analyze the effects of state programs on a variety of outcomes, and improve program administration in determining initial eligibility, establishing recertification periods, and expanding outreach in underserved populations and areas.

II. Method of Collection

The Census Bureau will contact the State Agencies to discuss uses of State administrative records data. The State Agencies will enter data sharing agreements with the Census Bureau to provide administrative records data. The State Agency will transfer State administrative records to the Census Bureau via secure File Transfer Protocol or appropriately encrypted CD-ROM or DVD-ROM.

III. Data

OMB Control Number: 0607-0995.

Form Number(s): None.

Type of Review: Regular submission, Request for an Extension, without Change, of a Currently Approved Collection.

Affected Public: State Governments.

Estimated Number of Respondents: 51 states.

Estimated Time per Response: 75.

Estimated Total Annual Burden Hours: 3,825.

Estimated Total Annual Cost to Public: $99,450 (This is not the cost of respondents' time, but the indirect costs respondents may incur for such things as purchases of specialized software or hardware needed to report, or expenditures for accounting or records maintenance services required specifically by the collection.)

Respondent's Obligation: Voluntary.

Legal Authority: Title 13 U.S.C. 6.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-03207 Filed 2-15-24; 8:45 am]

BILLING CODE 3510-07-P